DEPARTMENT OF DEFENSE

Department of the Army

Intent To Grant an Exclusive License for a U.S. Army Owned Invention to Skytel, Inc.

AGENCY: Department of the Army, DoD.

ACTION: Notice.

SUMMARY: The Department of the Army announces that, unless there is an objection within 15 days of this notice, that it is contemplating granting an exclusive license to Skytel, Inc, a corporation having a place of business in Clinton, MS, on “System And Method For Tactical Centralized Event Warning/Notification For Individual Entities” by Paul Manz of PM Battle Command, disclosure docket number—CECOM 5531; “System And Method For Semi-Distributed Event Warning/Notification For Individual Entities” by Paul Manz of PM Battle Command, disclosure docket number—CECOM 5530; “System And Method For Tactical Distributed Event Warning/Notification For Individual Entities” by Paul Manz of PM Battle Command and Fernando Maymi of the U.S. Military Academy (USMA), disclosure docket number—CECOM 5532; and “System For Event Warning/Notification And Reporting For Individual Entities” by Paul Manz of PM Battle Command and Fernando Maymi of USMA, disclosure docket number—CECOM 5533.

Any license granted shall comply with 35 U.S.C. 209 and 37 CFR Part 404.

DATES: File written objections by December 9, 2008.

FOR FURTHER INFORMATION CONTACT: Mr. Timothy S. Ryan, Technology Transfer Program Manager, AMSRD-AAR-EMB, U.S. Army ARDEC, Picatinny Arsenal, NJ 07806-5000, e-mail: timothy.s.ryan@us.army.mil; (973) 724-7953.

SUPPLEMENTARY INFORMATION: Written objections must be filed within 15 days from publication date of this notice in the Federal Register. Any license granted shall comply with 35 U.S.C. 209 and 37 CFR Part 404.

Brenda S. Bowen,
Army Federal Register Liaison Officer.

[FR Doc. E8-27829 Filed 11-21-08; 8:45 am]

BILLING CODE 3710-08-P